NUCLEAR REGULATORY COMMISSION

[Docket No. 40-7580]

Notice of Consideration of a License Amendment Request by Fansteel, Inc., for Approval of Transfer of its Muskogee, OK Facility License, and Opportunity to Request a Hearing

AGENCY: Nuclear Regulatory Commission.

ACTION: Notice of consideration of an amendment request to authorize transfer of a license, and opportunity to provide written comments or to request a hearing.

FOR FURTHER INFORMATION CONTACT: J.C. Shepherd, Decommissioning Branch, Division of Waste Management, Office of Nuclear Material Safety and Safeguards, U.S. Nuclear Regulatory Commission, Washington, DC 20555-0001. Telephone: (301) 415-6712; Fax: (301) 415-5398; and/or by email: jcs2@nrc.gov.

SUPPLEMENTARY INFORMATION:

I. Introduction

The U.S. Nuclear Regulatory Commission (NRC) is considering issuance of a license amendment to Fansteel, Inc.'s (Fansteel) materials license SMB-911 to authorize transfer of its license to MRI, Inc. License SMB-911 was issued to Fansteel under 10 CFR part 40 and authorizes Fansteel to possess up to 400 tons of natural uranium and thorium in any form. The material at the Muskogee site is in the form of uranium, thorium, radium, and decay-chain products in process equipment and buildings, soil, sludge, and groundwater.

On July 24, 2003, Fansteel submitted a request for authorization to transfer the current license with an amended Decommissioning Plan (currently under review and the subject of Federal Register notice 68 FR 47621, which provides an opportunity to provide comments and/or to request a hearing on that action) to MRI, Inc., a corporation to be formed under Delaware law as part of Fansteel's exit from bankruptcy. In conjunction with this request, Fansteel submitted with its request, a “Joint Reorganization Plan of Fansteel, Inc. and Subsidiaries” and a “Disclosure Statement with Respect to Joint Reorganization Plan of Fansteel, Inc. Et Al.” to the United States Bankruptcy Court for the District of Delaware.

Pursuant to 10 CFR 40.46, no license issued or granted under the regulations in Part 40, shall be transferred, assigned, or in any manner disposed of, either voluntarily or involuntarily, directly or indirectly, through transfer of control of any license to any person unless the Commission, after securing full information that the transfer is in accordance with the provisions of the Atomic Energy Act of 1954, as amended (AEA), gives its consent in writing. Therefore, before the issuance of an amendment, the NRC will have made the findings required by the AEA, and NRC's regulations. These findings will be documented in a Safety Evaluation Report. An Environmental Assessment (EA) will not be performed because, pursuant to 10 CFR 51.22(c)(21), this action is categorically excluded from the requirement to perform an EA.

II. Opportunity to Provide Written Comments

In accordance with 10 CFR 2.1305, the NRC is providing notice that, as an alternative to requests for hearings and petitions to intervene, persons may submit written comments regarding license transfer applications; however, such comments will not constitute part of the decisional record. Comments should be submitted within 30 days after notice of receipt is published in the Federal Register, by mail, telegram, or facsimile, addressed to the Secretary, U.S. Nuclear Regulatory Commission, Washington, DC 20555-0001. Attention: Rulemaking and Adjudications Staff. Because of continuing disruptions in the delivery of mail to United States Government offices, it is requested that written comments also be transmitted to the Secretary of the Commission either by means of facsimile transmission to (301) 415-1101, or by e-mail to secy@nrc.gov.

III. Opportunity to Request a Hearing

NRC hereby also provides notice that this is a proceeding on an application for an amendment of a license falling within the scope of Subpart M, “Public Notification, Availability of Documents and Records, Hearing Requests and Procedures for Hearing on License Transfer Applications,” of NRC's rules of practice for domestic licensing proceedings in 10 CFR part 2. Pursuant to § 2.1306(a), any person whose interest may be affected by this action may file a request for a hearing or petition for leave to intervene in accordance with § 2.1306(b). Pursuant to § 2.1306(c), to be timely, hearing requests and intervention petitions must be filed not later than 20 days after notice of receipt is published in the Federal Register.

In accordance with 10 CFR 2.1306(b)(4) and 2. 1313(b), the request for a hearing or intervention petition must be filed with:

1. The applicant, Fansteel, Inc., Number One Tantalum Place, North Chicago, IL 60064 Attention: Mr. Gary Tessitore, and;

2. The Office of the Secretary either:

(a) By delivery to Secretary, U.S. Nuclear Regulatory Commission, One White Flint North, 11555 Rockville Pike, Rockville, MD 20852-2738, between 7:45 a.m. and 4:15 p.m. Federal workdays; or

(b) By mail, telegram, or facsimile, addressed to the Secretary, U.S. Nuclear Regulatory Commission, Washington, D.C. 20555-0001. Attention: Rulemaking and Adjudications Staff. Because of continuing disruptions in the delivery of mail to United States Government offices, it is requested that requests for hearing also be transmitted to the Secretary of the Commission either by means of facsimile transmission to (301) 415-1101, or by e-mail to secy@nrc.gov. , and;

In accordance with 10 CFR 2.1313(b), each hearing request or intervention petition must also be served, by delivering it personally or by mail, to:

1. The NRC staff, by delivery to the Office of the General Counsel, U.S. Nuclear Regulatory Commission, One White Flint North, 11555 Rockville Pike, Rockville, MD 20852-2738, between 7:45 am and 4:15 pm Federal workdays, or by mail, addressed to the Office of the General Counsel, U.S. Nuclear Regulatory Commission, Washington, DC 20555-0001. Because of continuing disruptions in the delivery of mail to United States Government offices, it is requested that requests for hearing also be transmitted to the Office of the General Counsel either by means of facsimile transmission to (301) 415-3725, or by e-mail to ogcmailcenter@nrc.gov.

In addition to meeting other applicable requirements of 10 CFR part 2 of NRC's regulations, hearing requests and intervention petitions must:

1. State the name, address, and telephone number of the requestor or petitioner;

2. Set forth the issues sought to be raised, and

(a) demonstrate that such issues are within the scope of the proceeding on the license transfer application,

(b) demonstrate that such issues are relevant to the findings the NRC must make to grant the application for license transfer,

(c) provide a concise statement of the alleged facts or expert opinions which support the petitioner's position on the issues and on which the petitioner intends to rely at hearing, together with references to the specific sources and documents on which the petitioner intends to rely to support its position on the issues, and

(d) provide sufficient information to show that a genuine dispute exists with the applicant on a material issue of law or fact;

3. Specify both the facts pertaining to the petitioner's interest and how that interest may be affected with particular reference to the factors in 2.1308(a).

Untimely requests and petitions may be denied, as provided in 10 CFR 2.1308(b), unless good cause for failure to file on time is established. In addition, an untimely request or petition should address the factors that the Commission will also consider, in reviewing untimely requests or petitions, set forth in 10 CFR 2.1308(b)(1)-(2).

The Commission will issue a notice or order granting or denying a hearing request or intervention petition, designating the issues for any hearing that will be held and designating the Presiding Officer. A notice granting any such hearing will be published in the Federal Register and served on the parties to the hearing.

IV. Further Information

In accordance with 10 CFR 2.790 of the NRC's “Rules of Practice,” details with respect to this action, including the application for amendment and supporting documentation, are available electronically for public inspection and copying from the Publicly Available Records (PARS) component of NRC's document system (ADAMS). ADAMS is accessible from the NRC Web site at http://www.nrc.gov/reading-rm.html. These documents may also be examined, and/or copied for a fee, at the NRC Public Document Room (PDR), located at One White Flint North, 11555 Rockville Pike, Rockville, Maryland 20852.

Dated at Rockville, Maryland, this 15th day of August, 2003.
For the Nuclear Regulatory Commission.
Daniel M. Gillen,
Chief, Decommissioning Branch, Division of Waste Management, Office of Nuclear Material Safety and Safeguards.

[FR Doc. 03-21418 Filed 8-20-03; 8:45 am]

BILLING CODE 7590-01-P